DEPARTMENT OF HOMELAND SECURITY

Coast Guard

[Docket No. USCG-2012-0164]

Commercial Fishing Safety Advisory Committee; Vacancies

AGENCY: Coast Guard, DHS.

ACTION: Request for applications.

SUMMARY: The Coast Guard seeks applications for membership on the Commercial Fishing Safety Advisory Committee (CFSAC). The CFSAC provides advice and makes recommendations to the Coast Guard and the Department of Homeland Security on matters relating to the safe operation of commercial fishing industry vessels.

DATES: Applicants should submit a cover letter and resume in time to reach the Designated Federal Officer on or before April 30, 2012.

ADDRESSES: Applicants should send their cover letter and resume to the following address: Commandant (CG-543)/CFSAC, U.S. Coast Guard, 2100 Second Street SW., Mail Stop 7581, Washington, DC 20593-7581. This notice is also available on the Internet at http://www.FishSafe.info.

FOR FURTHER INFORMATION CONTACT: Mr. Jack Kemerer of the Coast Guard by telephone at 202-372-1249, fax 202-372-1917, or email: jack.a.kemerer@uscg.mil.

SUPPLEMENTARY INFORMATION: The CFSAC is a federal advisory committee under the Federal Advisory Committee Act (FACA), 5 U.S.C. App. (Pub. L. 92-463). The Coast Guard chartered the CFSAC to provide advice on issues related to the safety of commercial fishing industry vessels regulated under Chapter 45 of Title 46, United States Code, which includes uninspected fishing vessels, fish processing vessels, and fish tender vessels. (See 46 U.S.C. 4508.)

The CFSAC meets at least once a year. It may also meet for other extraordinary purposes. Its subcommittees may gather throughout the year to prepare for meetings or develop proposals for the committee as a whole to address specific problems.

The Coast Guard will consider applications for six positions that expire or become vacant in October 2012 in the following categories: (a) Commercial Fishing Industry (four positions); (b) General Public, a person familiar with issues affecting fishing communities and families of fishermen (one position); (c) naval architects and marine engineers (one position).

The CFSAC consists of 18 members with particular expertise, knowledge, and experience regarding commercial fishing industry as follows:

(a) Ten members who shall represent the commercial fishing industry and who—(1) reflect a regional and representational balance; and (2) have experience in the operation of vessels to which Chapter 45 of Title 46, U.S.C. applies, or as crew member or processing line worker on a fish processing vessel;

(b) Three members who shall represent the general public, including, whenever possible—(1) an independent expert or consultant in maritime safety; (2) a marine surveyor who provides services to vessels to which Chapter 45 of Title 46, U.S.C. applies; and (3) a person familiar with issues affecting fishing communities and families of fishermen;

(c) One member each of whom shall represent—(1) naval architects and marine engineers; (2) manufacturers of equipment for vessels to which Chapter 45 of Title 46, U.S.C. applies; (3) education or training professionals related to fishing vessel, fish processing vessel, fish tender vessel safety or personnel qualifications; (4) underwriters that insure vessels to which Chapter 45 of Title 46, U.S.C. applies; and (5) owners of vessels to which Chapter 45 of title 46, U.S.C. applies.

Each member serves for a term of three years. An individual may be appointed to a term as a member more than once. All members serve at their own expense and receive no salary from the Federal Government, although travel reimbursement and per diem may be provided for called meetings. Registered lobbyists are not eligible to serve on Federal Advisory Committees. Registered lobbyists are lobbyists required to comply with provisions contained in the Lobbying Disclosure Act, Title 2, United States Code, Section 1603.

The Department of Homeland Security (DHS) does not discriminate in employment on the basis of race, color, religion, sex, national origin, political affiliation, sexual orientation, gender identity, marital status, disability and genetic information, age, membership in an employee organization, or other non-merit factor. DHS strives to achieve a widely diverse candidate pool for all of its recruitment actions.

If you are selected as a member from the general public, you will be appointed and serve as a Special Government Employee (SGE) as defined in Section 202(a) of Title 18, United States Code. As a candidate for appointment as a SGE, applicants are required to complete a Confidential Financial Disclosure Report (OGE Form 450). A completed OGE Form 450 is not releasable to the public except under an order issued by a Federal court or as otherwise provided under the Privacy Act (5 U.S.C. 552a). Only the Designated Agency Ethics Official (DAEO) or the DAEO's designate may release a Confidential Financial Disclosure Report. Applicants can obtain this form by going to the Web site of the Office of Government Ethics (www.oge.gov), or by contacting the individual listed above. Applications which are not accompanied by a completed OGE Form 450 will not be considered.

If you are interested in applying to become a member of the Committee, send your cover letter and resume to Mr. Jack Kemerer, Alternate Designated Federal Officer (ADFO) of CFSAC at Commandant (CG-543)/CFSAC, U.S. Coast Guard, 2100 Second Street SW., Mail Stop 7581, Washington, DC 20593-7581. To visit our online docket, go to http://www.regulations.gov, enter the docket number for this notice (USCG-2012-0164) in the Search box, and click “Go”. Please do not post your resume on this site. During the vetting process, applicants may be asked to provide date of birth and social security number.

Dated: March 12, 2012.
Paul F. Thomas,
Captain, U.S. Coast Guard, Acting Director of Prevention Policy.

[FR Doc. 2012-6492 Filed 3-16-12; 8:45 am]

BILLING CODE 9110-04-P